DEPARTMENT OF TRANSPORTATION

Federal Aviation Administration

14 CFR Part 39

[Docket No. FAA-2009-0674; Directorate Identifier 2009-NE-25-AD; Amendment 39-16092; AD 2009-24-05]

RIN 2120-AA64

Airworthiness Directives; Rolls-Royce plc RB211-Trent 800 Series Turbofan Engines

AGENCY: Federal Aviation Administration (FAA), DOT.

ACTION: Final rule.

SUMMARY: We are adopting a new airworthiness directive (AD) for the products listed above. This AD results from mandatory continuing airworthiness information (MCAI) issued by an aviation authority of another country to identify and correct an unsafe condition on an aviation product. The MCAI describes the unsafe condition as:

Under certain ambient conditions, ice can accumulate on the walls of the fuel pipes within the aircraft fuel system, which can then be released downstream when fuel flow demand is increased. This released ice can then collect on the fuel-to-oil heat exchanger (FOHE) front face and limit fuel flow through the FOHE.

We are issuing this AD to prevent ice from blocking the FOHE, which could result in an unacceptable engine power loss, and loss of control of the airplane.

DATES: This AD becomes effective January 4, 2010. The Director of the Federal Register approved the incorporation by reference of certain publications listed in the regulations as of January 4, 2010.

ADDRESSES: The Docket Operations office is located at Docket Management Facility, U.S. Department of Transportation, 1200 New Jersey Avenue, SE., West Building Ground Floor, Room W12-140, Washington, DC 20590-0001.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

You can get the service information identified in this AD from Rolls-Royce plc, P.O. Box 31, DERBY, DE24 8BJ, UK; telephone 44 (0) 1332 242424; fax 44 (0) 1332 249936.

SUPPLEMENTARY INFORMATION:

Discussion

We issued a notice of proposed rulemaking (NPRM) to amend 14 CFR part 39 to include an AD that would apply to the specified products. That NPRM was published in the Federal Register on July 23, 2009 (74 FR 36422). That NPRM proposed to correct an unsafe condition for the specified products. The MCAI states:

This Airworthiness Directive has been raised following an incident involving dual loss of engine response in the final stages of approach leading to touchdown short of the runway. The phenomenon involved in the loss of engine response has also been seen in flight affecting just one engine.

Post incident analysis and investigation has established that, under certain ambient conditions, ice can accumulate on the walls of the fuel pipes within the aircraft fuel system, which can then be released downstream when fuel flow demand is increased. This released ice can then collect on the FOHE front face and limit fuel flow through the FOHE. This type of icing event was previously unknown and creates ice concentrations in the fuel system beyond those specified in the certification requirements.

To mitigate the risk of engine FOHE blockage, this AD requires replacing the FOHE, part number (P/N) 55003001-1 or 55003001-11, with a FOHE that has been modified using Rolls-Royce plc Alert Service Bulletin (ASB) No. RB.211-79-AG257, Revision 1, dated September 14, 2009.

Comments

We gave the public the opportunity to participate in developing this AD. We considered the comments received.

Request To Eliminate “Or Equivalent” From Paragraph (e)

Delta Airlines requests that we eliminate the words “or equivalent” from paragraph (e) of the proposed AD.

We agree. We deleted them from paragraph (e) of the AD.

Requests To List the Replacement FOHE P/N or Subsequent Post Alert Service Bulletin FOHE P/N

American Airlines, Rolls-Royce plc, Boeing, and the Airlines Pilot Association (ALPA) request that we require replacing the FOHE, P/N 55003001-1 or 55003001-11, with a FOHE P/N 55003001-21, or subsequent post Rolls-Royce plc ASB No. RB.211-79-AG257 FOHE P/N.

We partially agree. Rulemaking requirements do not permit advance approval of unknown future revisions to service bulletins and part numbers. However, we agree that we can clarify the compliance to identify the modification needed to replace the FOHE. We changed paragraph (e) to state “Unless already done, within 6,000 flight hours after the effective date of this AD, but no later than January 1, 2011, replace the FOHE, P/N 55003001-1 or 55003001-11, with an FOHE modified using Rolls-Royce plc ASB No. RB.211-79-AG257, Revision 1, dated September 14, 2009.

Request To Change the Summary and Discussion Paragraphs

Boeing requests that we change the Summary and Discussion paragraphs from “under certain ambient conditions, ice can accumulate on the walls of the fuel pipes within the aircraft fuel system” to “under certain ambient conditions, ice can accumulate on the walls of the fuel pipes within the aircraft and/or engine fuel systems.” The commenter states that the current wording suggests that ice accumulation is possible only in the aircraft-side wing and strut fuel feed lines. Post incident analysis and investigation could not conclusively identify where in the feed lines ice accumulated, nor did it exclude the possibility of accumulation within the engine-side fuel feed lines, and or components. The suggested wording eliminates this ambiguity.

We do not agree. For the purpose of this AD, separating the aircraft fuel system from the engine fuel system is not necessary. Together, they represent the single fuel system for the aircraft. We did not change the AD.

Identify the AD as Terminating Action for AD 2009-05-11

American Airlines requests that compliance with the AD on both engines of an airplane be identified as terminating action for AD 2009-05-11. AD 2009-05-11 currently requires on-ground and in-flight procedures at the airplane-level.

We do not agree. AD 2009-05-11, which is a Transport Airplane Directorate AD, defines procedures for the aircraft and not the engines. This AD is applicable to the engines only. Terminating the requirements of AD 2009-05-11 must be done within the constraints of that AD and cannot be defined in this AD. We did not change the AD.

Request To Revise the Costs of Compliance Estimate

Rolls-Royce plc requests that we revise the estimated costs of compliance from a total of $1,647,720, to a total of $8,098,530, to be more accurate.

We agree. Since we prepared our initial cost estimate, Rolls-Royce has updated their information to us. We changed the costs of compliance section in the AD preamble.

Request To Change the Compliance Time

ALPA International requests that we change the proposed AD compliance time from “Within 6,000 flight hours after the effective date of this AD, but no later than January 1, 2011”, to “Within six months after the effective date of the AD or within 6,000 flight hours after receipt of the Service Bulletin.” ALPA International believes that the decreased compliance times are important since, in the event a blockage of the FOHE, the current procedure requires an immediate idle descent to melt the blockage. Due to this aircraft's design mission of long range flight, it often operates over oceanic and geographically remote areas where radar surveillance may not exist and communications with the air traffic control is encumbered by language limits, poor radio reception, and third party communication relay services. These areas may concentrate traffic on specific routes or tracks. This creates the potential for traffic conflicts during the descent, without the ability to receive timely Air Traffic Control clearance or the additional safety oversight provided by radar separation. This engine rollback is very insidious to the crew and creates the potential for a pilot to be faced with an immediate descent without adequate time to compensate for traffic, weather, or terrain.

We do not agree. On February 17, 2009, the Transport Airplane Directorate issued AD 2009-05-11 that revises the airplane flight manual to include in-flight procedures for pilots to follow in certain cold weather conditions. That AD also includes mandating fuel circulation procedures on the ground when certain conditions exist. These procedures are considered adequate to assure continued safe operation through all environments and conditions, including those expressed by ALPA, until hardware modifications become available. Those procedures also reduce hazardous amounts of ice buildup within the fuel feed system and eliminate ice accumulation on the face of the FOHE. We did not change the AD.

Request a Mandate To Retrofit At Least One Engine

The National Transportation Safety Board (NTSB) requests that we mandate the retrofit of at least one engine on each airplane in the affected fleet by the end of December 2009. The NTSB believes that the January 1, 2011 compliance date for installation of the new FOHE is not consistent with the risk associated with the original FOHE design.

We do not agree. AD 2009-05-11 revises the airplane flight manual to include in-flight procedures for pilots to follow in certain cold weather conditions. It also includes mandating fuel circulation procedures on the ground when certain conditions exist. It was issued to assure continued safe operation until hardware modifications become available. The actions reduce hazardous amounts of ice buildup within the fuel feed system and eliminate ice accumulation on the face of the FOHE. Those procedures were put into place while the investigation was ongoing and in advance of a permanent solution to the problem. We consider those procedures appropriate as an interim action to ensure continued safe operation until a permanent solution can be incorporated.

Conclusion

We reviewed the available data, including the comments received, and determined that air safety and the public interest require adopting the AD with the changes described previously. We determined that these changes will not increase the economic burden on any operator or increase the scope of the AD.

Differences Between This AD and the MCAI or Service Information

The EASA AD 2009-0142, dated July 13, 2009, requires replacing the FOHE within 6,000 flight hours from July 10, 2009 or before January 1, 2011, whichever occurs first. This AD requires replacing the FOHE within 6,000 flight hours after the effective date of the AD, rather than within 6,000 flight hours from July 10, 2009.

Costs of Compliance

Based on the service information, we estimate that this AD will affect about 138 products of U.S. registry. We also estimate that it will take about 8.5 work-hours per product to comply with this AD. The average labor rate is $80 per work-hour. Required parts will cost about $58,005 per product. Based on these figures, we estimate the cost of the AD on U.S. operators to be $8,098,530.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-24-05 Rolls-Royce plc: Amendment 39-16092. Docket No. FAA-2009-0674; Directorate Identifier 2009-NE-25-AD.

Effective Date

(a) This airworthiness directive (AD) becomes effective January 4, 2010.

Affected ADs

(b) None.

Applicability

(c) This AD applies to Rolls-Royce plc models RB211-Trent 875-17, 877-17, 884-17, 884B-17, 892-17, 892B-17, and 895-17 turbofan engines with fuel-to-oil heat exchangers, part numbers 55003001-1 and 55003001-11, installed. These engines are installed on, but not limited to, Boeing 777 series airplanes.

Reason

(d) This AD results from the risk of engine fuel-to-oil heat exchanger (FOHE) blockage. We are issuing this AD to prevent ice from blocking the FOHE, which could result in an unacceptable engine power loss and loss of control of the airplane.

Actions and Compliance

(e) Unless already done, within 6,000 flight hours after the effective date of this AD, but no later than January 1, 2011, replace the FOHE, P/N 55003001-1 or 55003001-11, with an FOHE modified using Rolls-Royce plc Alert Service Bulletin No. RB.211-79-AG257, Revision 1, dated September 14, 2009.

FAA AD Differences

(f) This AD differs from the Mandatory Continuing Airworthiness Information (MCAI) by requiring replacing the FOHE within 6,000 flight hours after the effective date of this AD, rather than within 6,000 flight hours from July 10, 2009.

Other FAA AD Provisions

(g) Alternative Methods of Compliance (AMOCs): The Manager, Engine Certification Office, FAA, has the authority to approve AMOCs for this AD, if requested using the procedures found in 14 CFR 39.19.

Related Information

(h) Refer to MCAI Airworthiness Directive 2009-0142, dated July 13, 2009, and Rolls-Royce plc Alert Service Bulletin No. RB.211-79-AG257, Revision 1, dated September 14, 2009, for related information. Contact Rolls-Royce plc, P.O. Box 31, DERBY, DE24 8BJ, UK; telephone 44 (0) 1332 242424; fax 44 (0) 1332 249936, for a copy of this service information.

(i) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Material Incorporated by Reference

(j) You must use Rolls-Royce plc Alert Service Bulletin No. RB.211-79-AG257, Revision 1, dated September 14, 2009, to perform the FOHE modification required by this AD. The Director of the Federal Register approved the incorporation by reference of this service bulletin in accordance with 5 U.S.C. 552(a) and 1 CFR part 51. Contact Rolls-Royce plc, P.O. Box 31, DERBY, DE24 8BJ, UK; telephone 44 (0) 1332 242424; fax 44 (0) 1332 249936, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts, on November 16, 2009.
Peter A. White,
Assistant Manager, Engine and Propeller Directorate, Aircraft Certification Service.

[FR Doc. E9-28151 Filed 11-25-09; 8:45 am]

BILLING CODE 4910-13-P